NUCLEAR REGULATORY COMMISSION

[NRC-2022-0001]

Sunshine Act Meetings

TIME AND DATE: Weeks of June 6, 13, 20, 27, July 4, 11, 2022. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Wendy.Moore@nrc.gov or Betty.Thweatt@nrc.gov.

MATTERS TO BE CONSIDERED:

Week of June 6, 2022

There are no meetings scheduled for the week of June 6, 2022.

Week of June 13, 2022

Tuesday, June 14, 2022

10:00 a.m. Briefing on Human Capital and Equal Employment Opportunity; (Contact: Nicole Newton: 301-415-8316)

Additional Information: The meeting will be held in the Commissioners' Conference Room, 11555 Rockville Pike, Rockville, Maryland. The public is invited to attend the Commission's meeting in person or watch live via webcast at the Web address— https://video.nrc.gov/.

Thursday, June 16, 2022

10:00 a.m. Briefing on Results of the Agency Action Review Meeting; (Contact: Nicole Fields: 630-829-9570)

Additional Information: The meeting will be held in the Commissioners' Conference Room, 11555 Rockville Pike, Rockville, Maryland. The public is invited to attend the Commission's meeting in person or watch live via webcast at the Web address— https://video.nrc.gov/.

Week of June 20, 2022—Tentative

There are no meetings scheduled for the week of June 20, 2022.

Week of June 27, 2022—Tentative

There are no meetings scheduled for the week of June 27, 2022.

Week of July 4, 2022—Tentative

There are no meetings scheduled for the week of July 4, 2022.

Week of July 11, 2022—Tentative

There are no meetings scheduled for the week of July 11, 2022.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: June 2, 2022.
For the Nuclear Regulatory Commission.
Wesley W. Held,
Policy Coordinator, Office of the Secretary.

[FR Doc. 2022-12271 Filed 6-2-22; 4:15 pm]

BILLING CODE 7590-01-P